FEDERAL MARITIME COMMISSION

Ocean Transportation Intermediary License Reissuances

Notice is hereby given that the following Ocean Transportation Intermediary licenses have been reissued by the Federal Maritime Commission pursuant to section 19 of the Shipping Act of 1984 (46 U.S.C. Chapter 409) and the regulations of the Commission pertaining to the licensing of Ocean Transportation Intermediaries, 46 CFR Part 515.

License No. | Name/address | Date reissued
001593F | Robertson Forwarding Co., Inc., 4469 NW 97th Ave., Miami, FL 33178 | May 10, 2009.
013172N | Yung Hoon Kim, dba Conex International, 20695 South Western Ave., Suite 136, Torrance, CA 90501 | May 6, 2009.

Sandra L. Kusumoto,
Director, Bureau of Certification and Licensing.

[FR Doc. E9-13639 Filed 6-9-09; 8:45 am]

BILLING CODE 6730-01-P